DEPARTMENT OF COMMERCE

International Trade Administration

[A-570-893]

Certain Frozen Warmwater Shrimp From the People's Republic of China: Preliminary Results of Antidumping Duty Administrative Review and Preliminary Determination of No Shipments; 2021-2022

AGENCY: Enforcement and Compliance, International Trade Administration, Department of Commerce.

SUMMARY: The U.S. Department of Commerce (Commerce) preliminarily determines that two exporters of certain frozen warmwater shrimp (shrimp) from the People's Republic of China (China) under review had no shipments of subject merchandise during the period of review (POR) February 1, 2021, through January 31, 2022. Commerce also preliminarily determines that the 134 remaining companies subject to this review are part of the China-wide entity because they did not demonstrate their eligibility for separate rates.

DATES: Applicable October 25, 2022.

FOR FURTHER INFORMATION CONTACT: Eric Hawkins, AD/CVD Operations, Office V, Enforcement and Compliance, International Trade Administration, U.S. Department of Commerce, 1401 Constitution Avenue NW, Washington, DC 20230; telephone: (202) 482-1988.

SUPPLEMENTARY INFORMATION:

Background

On February 1, 2005, Commerce published in the Federal Register the antidumping duty order on shrimp from China.¹ On February 8, 2022, Commerce published in the Federal Register a notice of opportunity to request an administrative review of the Order.² On April 12, 2022, based on timely requests for an administrative review, Commerce initiated the administrative review with respect to 136 exporters.³ Subsequently, we released U.S. Customs and Border Protection (CBP) data to interested parties for comment.⁴ We received timely comments from the Ad Hoc Shrimp Trade Action Committee (AHSTAC) and the American Shrimp Processors Association (ASPA).⁵

¹ See Notice of Amended Final Determination of Sales at Less Than Fair Value and Antidumping Duty Order: Certain Frozen Warmwater Shrimp from the People's Republic of China, 70 FR 5149 (February 1, 2005) (Order).

² See Antidumping or Countervailing Duty Order, Finding, or Suspended Investigation; Opportunity to Request Administrative Review and Join Annual Inquiry Service List, 87 FR 7112 (February 8, 2022).

³ See Initiation of Antidumping and Countervailing Duty Administrative Reviews, 87 FR 21619 (April 12, 2022).

⁴ See Memorandum, “Release of U.S. Customs and Border Protection Data,” dated April 13, 2022.

⁵ See AHSTAC's Letter, “Certain Frozen Warmwater Shrimp from India, Thailand, the Socialist Republic of Vietnam, and the People's Republic of China: Domestic Producers' Comments Regarding CBP Data and Respondent Selection,” dated April 14, 2022; see also ASPA's Letter, “Administrative Review of the Antidumping Duty Order Covering Frozen Warmwater Shrimp from the People's Republic of China (POR 17: 02/01/21-01/31/2022): Comments on Respondent Selection and CBP Data,” dated April 20, 2022.

On May 11 and 12, 2022, we received timely no-shipment certifications from two companies.⁶ We did not receive a no-shipment statement, separate rate application (SRA), or separate rate certification (SRC) from any other company subject to this review. For a complete description of the events that followed the initiation of this administrative review, see the Preliminary Decision Memorandum.⁷ A list of topics discussed in the Preliminary Decision Memorandum is included at Appendix III to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ We received timely no-shipment certifications from Zhangzhou Hongwei Foods Co., Ltd.; and Zhanjiang Regal Integrated Marine Resources Co., Ltd. (Zhanjiang Regal). Zhanjiang Regal is excluded from the Order with respect to merchandise manufactured and exported by Zhanjiang Regal. See Certain Frozen Warmwater Shrimp from the People's Republic of China: Final Results of Administrative Review; 2011-2012, 78 FR 56209, 56210 (September 12, 2013). Zhanjiang Regal submitted a no-shipment certification for exports outside the above combination.

⁷ See Memorandum, “Decision Memorandum for the Preliminary Results of the Antidumping Duty Administrative Review of Certain Frozen Warmwater Shrimp from the People's Republic of China; 2021-2022,” dated concurrently with, and hereby adopted by, this notice (Preliminary Decision Memorandum).

Scope of the Order

The scope of the Order includes certain frozen warmwater shrimp and prawns, whether wild caught (ocean harvested) or farm raised (produced by aquaculture), head on or head off, shell on or peeled, tail on or tail off,⁸ deveined or not deveined, cooked or raw, or otherwise processed in frozen form. A complete description of the scope of the Order is contained in the Preliminary Decision Memorandum.

⁸ “Tails” in this context means the tail fan, which includes the telson and the uropods.

Methodology

Commerce is conducting this review in accordance with section 751(a)(1)(B) of the Tariff Act of 1930, as amended (the Act) and 19 CFR 351.213.

Preliminary Determination of No Shipments

Based upon the no-shipment certifications received by Commerce, and our review of the CBP data, we preliminary find that two companies had no shipments during the POR. Commerce requested that CBP confirm whether any shipments of subject merchandise entered the United States during the POR with respect to the two companies that submitted no shipment claims.⁹ CBP responded that it has no record of any subject entries for these two inquiries.¹⁰ For additional information regarding this determination, see the Preliminary Decision Memorandum. Consistent with our assessment in non-market economy administrative reviews,¹¹ Commerce is not rescinding this review for these two companies.¹² Commerce intends to complete this review and issue appropriate instructions to CBP based on the final results of this review.

⁹ See CBP Message 2138420, “No Shipment Inquiry for Zhangzhou Hongwei Foods Co., Ltd. During the Period 02/01/2021 through 1/31/2022,” dated May 18, 2022; see also CBP Message 2138426, “No Shipment Inquiry for Zhanjiang Regal Integrated Marine Resources Co., Ltd. During the Period 02/01/2021 through 1/31/2022,” dated May 18, 2022.

¹⁰ See Memorandum, “Certain Frozen Warmwater Shrimp from the People's Republic of China; No Shipment Inquiries for Zhangzhou Hongwei Foods Co., Ltd. and Zhanjiang Regal Integrated Marine Resources Co., Ltd. During the Period 02/01/2021 through 01/31/2022,” dated May 25, 2022.

¹¹ See Non-Market Economy Antidumping Proceedings: Assessment of Antidumping Duties, 76 FR 65694, 65694-95 (October 24, 2011); see also “Assessment Rate” section, infra.

¹² See Appendix II.

Separate Rates

Because the other 134 companies under review did not submit a no-shipment certification, SRA, or SRC, Commerce preliminarily determines that these companies have not demonstrated their eligibility for separate rates.¹³ For additional information, see the Preliminary Decision Memorandum.

¹³ See Appendix I.

China-Wide Entity

Commerce's policy regarding conditional review of the China-wide entity applies to this administrative review.¹⁴ Under this policy, the China-wide entity will not be under review unless a party specifically requests, or Commerce self-initiates, a review of the China-wide entity.¹⁵ Because no party requested a review of the China-wide entity in this review, the China-wide entity is not under review and the China-wide entity's rate (i.e., 112.81 percent) is not subject to change.¹⁶ For additional information, see the Preliminary Decision Memorandum.

¹⁴ See Antidumping Proceedings: Announcement of Change in Department Practice for Respondent Selection in Antidumping Duty Proceedings and Conditional Review of the Nonmarket Economy Entity in NME Antidumping Duty Proceedings, 78 FR 65963 (November 4, 2013).

¹⁵ Id.

¹⁶ See Order, 83 FR at 512.

Public Comment

In accordance with 19 CFR 351.309(c), case briefs or other written comments may be submitted to the Assistant Secretary for Enforcement and Compliance no later than 30 days after the date of publication of these preliminary results. Rebuttal briefs, limited to issues raised in case briefs, may be submitted no later than seven days after the deadline date for case briefs.¹⁷ Pursuant to 19 CFR 351.309(c)(2) and (d)(2), parties who submit case briefs or rebuttal briefs in this review are encouraged to submit with each argument: (1) a statement of the issue; (2) a brief summary of the argument; and (3) a table of authorities. Note that Commerce has temporarily modified certain of its requirements for serving documents containing business proprietary information, until further notice.¹⁸

¹⁷ See 19 CFR 351.309; see also 19 CFR 351.303 (for general filing requirements).

¹⁸ See Temporary Rule Modifying AD/CVD Service Requirements Due to Covid-19, Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants; and (3) a list of issues to be discussed. Oral presentations at the hearing will be limited to those issues raised in the briefs. If a request for a hearing is made, Commerce intends to hold the hearing at a date and time to be determined.¹⁹ Parties should confirm by telephone the date, time, and location of the hearing two days before the scheduled date. An electronically filed hearing request must be received successfully in its entirety by ACCESS by 5:00 p.m. Eastern Time on the established deadline.

¹⁹ See 19 CFR 351.310(d).

Assessment Rates

Upon issuance of the final results of this review, Commerce will determine, and CBP shall assess, antidumping duties on all appropriate entries covered by this review.²⁰ We have not calculated any assessment rates in this administrative review. Based on record evidence, we have preliminarily determined that two companies had no shipments of subject merchandise and, therefore, pursuant to Commerce's assessment practice, any suspended entries that entered under their case numbers, where available, will be liquidated at the China-wide entity rate.²¹ For all remaining companies subject to this review, which are part of the China-wide entity, we will instruct CBP to liquidate their entries at the current rate for the China-wide entity (i.e., 112.81 percent). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁰ See 19 CFR 351.212(b)(1).

²¹ For a full discussion of this practice, see Non-Market Economy Antidumping Proceedings: Assessment of Antidumping Duties, 76 FR 65694 (October 24, 2011).

Cash Deposit Requirements

The following cash deposit requirements will be effective upon publication of the final results of this administrative review for shipments of the subject merchandise from China entered, or withdrawn from warehouse, for consumption on or after the publication date of the final results of this administrative review, as provided by section 751(a)(2)(C) of the Act: (1) the cash deposit rates for the two companies that had no shipments during the POR will remain unchanged from the rates assigned to them in the most recently completed segment for each company; (2) for previously investigated or reviewed Chinese and non-Chinese exporters that have separate rates, the cash deposit rate will continue to be the exporter-specific rate published for the most recently completed segment of this proceeding; (3) for all Chinese exporters of subject merchandise that have not been found to be entitled to a separate rate, the cash deposit rate will be the rate for the China-wide entity (i.e., 112.81 percent); and (4) for all non-Chinese exporters of subject merchandise that have not received their own rate, the cash deposit rate will be the rate applicable to the Chinese exporter that supplied that non-Chinese exporter. These deposit requirements, when imposed, shall remain in effect until further notice.

Final Results of Review

Unless otherwise extended, Commerce intends to issue the final results of this administrative review, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These preliminary results of administrative review are issued and published in accordance with sections 751(a)(1) and 777(i)(l) of the Act, and 19 CFR 351.213(h)(1).

Dated: October 19, 2022.
Ryan Majerus,
Deputy Assistant Secretary for Policy and Negotiations.

Appendix I

Companies Not Eligible for a Separate Rate

1. Allied Pacific Aquatic Products (Zhanjiang) Co., Ltd./Allied Pacific Food (Dalian) Co., Ltd.

2. Anhui Fuhuang Sungem Foodstuff Group Co., Ltd.

3. Asian Seafoods (Zhanjiang) Co., Ltd.

4. Beihai Anbang Seafood Co., Ltd.

5. Beihai Boston Frozen Food Co., Ltd.

6. Beihai Evergreen Aquatic Product Science and Technology Company Limited

7. Beihai Tianwei Aquatic Food Co. Ltd.

8. Changli Luquan Aquatic Products Co., Ltd.

9. Chengda Development Co Ltd.

10. Colorful Bright Trade Co., Ltd.

11. Dalian Beauty Seafood Company Ltd.

12. Dalian Changfeng Food Co., Ltd.

13. Dalian Guofu Aquatic Products and Food Co., Ltd.

14. Dalian Haiqing Food Co., Ltd.

15. Dalian Hengtai Foods Co., Ltd.

16. Dalian Home Sea International Trading Co., Ltd.

17. Dalian Philica International Trade Co., Ltd.

18. Dalian Philica Supply Chain Management Co., Ltd.

19. Dalian Rich Enterprise Group Co., Ltd.

20. Dalian Shanhai Seafood Co., Ltd.

21. Dalian Sunrise Foodstuffs Co., Ltd.

22. Dalian Taiyang Aquatic Products Co., Ltd.

23. Dandong Taihong Foodstuff Co., Ltd.

24. Dongwei Aquatic Products (Zhangzhou) Co., Ltd.

25. Ferrero Food

26. Fujian Chaohui Group

27. Fujian Chaowei International Trading

28. Fujian Dongshan County Shunfa Aquatic Product Co., Ltd.

29. Fujian Dongwei Food Co., Ltd.

30. Fujian Dongya Aquatic Products Co., Ltd.

31. Fujian Fuding Seagull Fishing Food Co., Ltd.

32. Fujian Haihun Aquatic Product Company

33. Fujian Hainason Trading Co., Ltd.

34. Fujian Hongao Trade Development Co.

35. Fujian R & J Group Ltd.

36. Fujian Rongjiang Import and Export Co., Ltd.

37. Fujian Zhaoan Haili Aquatic Co., Ltd.

38. Fuqing Chaohui Aquatic Food Co., Ltd.

39. Fuqing Dongwei Aquatic Products Industry Co., Ltd.

40. Fuqing Longhua Aquatic Food Co., Ltd.

41. Fuqing Minhua Trade Co., Ltd.

42. Fuqing Yihua Aquatic Food Co., Ltd.

43. Gallant Ocean Group

44. Guangdong Foodstuffs Import & Export (Group) Corporation

45. Guangdong Gourmet Aquatic Products Co., Ltd.

46. Guangdong Jinhang Foods Co., Ltd.

47. Guangdong Rainbow Aquatic Development

48. Guangdong Shunxin Marine Fishery Group Co., Ltd.

49. Guangdong Taizhou Import & Export Trade Co., Ltd.

50. Guangdong Universal Aquatic Food Co. Ltd.

51. Guangdong Wanshida Holding Corp.

52. Guangdong Wanya Foods Fty. Co., Ltd.

53. HaiLi Aquatic Product Co., Ltd.

54. Hainan Brich Aquatic Products Co., Ltd.

55. Hainan Golden Spring Foods Co., Ltd.

56. Hainan Qinfu Foods Co., Ltd.

57. Hainan Xintaisheng Industry Co., Ltd.

58. Huazhou Xinhai Aquatic Products Co. Ltd.

59. Kuehne Nagel Ltd. Xiamen Branch

60. Leizhou Bei Bu Wan Sea Products Co., Ltd.

61. Longhai Gelin Foods Co., Ltd.

62. Maoming Xinzhou Seafood Co., Ltd.

63. New Continent Foods Co., Ltd.

64. Ningbo Prolar Global Co., Ltd.

65. North Seafood Group Co.

66. Pacific Andes Food Ltd.

67. Penglai Huiyang Foodstuff Co., Ltd.

68. Penglai Yuming Foodstuff Co., Ltd.

69. Qingdao Fusheng Foodstuffs Co., Ltd.

70. Qingdao Yihexing Foods Co., Ltd.

71. Qingdao Yize Food Co., Ltd.

72. Qingdao Zhongfu International

73. Qinhuangdao Gangwan Aquatic Products Co., Ltd.

74. Raoping YuXiang Aquaculture Co., Ltd.

75. Rizhao Meijia Aquatic Foodstuff Co., Ltd.

76. Rizhao Meijia Keyuan Foods Co. Ltd.

77. Rizhao Rongjin Aquatic

78. Rizhao Rongxing Co. Ltd.

79. Rizhao Smart Foods Company Limited

80. Rongcheng Sanyue Foodstuff Co., Ltd.

81. Rongcheng Yinhai Aquatic Product Co., Ltd.

82. Rushan Chunjiangyuan Foodstuffs Co., Ltd.

83. Rushan Hengbo Aquatic Products Co., Ltd.

84. Savvy Seafood Inc.

85. Sea Trade International Inc.

86. Shanghai Finigate Integrated

87. Shanghai Zhoulian Foods Co., Ltd.

88. Shantou Freezing Aquatic Product Foodstuffs Co.

89. Shantou Haili Aquatic Product Co. Ltd.

90. Shantou Haimao Foodstuff Factory Co., Ltd.

91. Shantou Jiazhou Food Industrial Co., Ltd.

92. Shantou Jinping Oceanstar Business Co., Ltd.

93. Shantou Jintai Aquatic Product Industrial Co., Ltd.

94. Shantou Longsheng Aquatic Product Foodstuff Co., Ltd.

95. Shantou Ocean Best Seafood Corporation

96. Shantou Red Garden Food Processing Co., Ltd./Shantou Red Garden Foodstuff Co., Ltd.

97. Shantou Ruiyuan Industry Co., Ltd.

98. Shantou Wanya Foods Fty. Co., Ltd.

99. Shantou Yuexing Enterprise Company

100. Shengyuan Aquatic Food Co., Ltd.

101. Suizhong Tieshan Food Co., Ltd.

102. Thai Royal Frozen Food Zhanjiang Co., Ltd.

103. Tongwei Hainan Aquatic Products Co., Ltd.

104. Time Seafood (Dalian) Company Limited

105. Xiamen East Ocean Foods Co., Ltd.

106. Xiamen Granda Import and Export Co., Ltd.

107. Yangjiang Dawu Aquatic Products Co., Ltd.

108. Yangjiang Guolian Seafood Co., Ltd.

109. Yangjiang Haina Datong Trading Co.

110. Yantai Longda Foodstuffs Co., Ltd.

111. Yantai Tedfoods Co., Ltd.

112. Yantai Wei-Cheng Food Co., Ltd.

113. Yixing Magnolia Garment Co., Ltd.

114. Zhangzhou Donghao Seafoods Co., Ltd.

115. Zhangzhou Fuzhiyuan Food Co., Ltd.

116. Zhangzhou Tai Yi Import & Export Trading Co., Ltd.

117. Zhangzhou Xinhui Foods Co., Ltd.

118. Zhangzhou Xinwanya Aquatic Product Co., Ltd.

119. Zhangzhou Yanfeng Aquatic Product & Foodstuff Co., Ltd.

120. Zhanjiang Evergreen Aquatic Product Science and Technology Co., Ltd.

121. Zhanjiang Fuchang Aquatic Products Co., Ltd.

122. Zhanjiang Fuchang Aquatic Products Freezing Plant

123. Zhanjiang Go-Harvest Aquatic Products Co., Ltd.

124. Zhanjiang Guolian Aquatic Products Co., Ltd.

125. Zhanjiang Longwei Aquatic Products Industry Co., Ltd.

126. Zhanjiang Universal Seafood Corp.

127. Zhaoan Yangli Aquatic Co., Ltd.

128. Zhejiang Evernew Seafood Co.

129. Zhejiang Xinwang Foodstuffs Co., Ltd.

130. Zhenye Aquatic (Huilong) Ltd.

131. Zhoushan Genho Food Co., Ltd.

132. Zhoushan Green Food Co., Ltd.

133. Zhoushan Haizhou Aquatic Products

134. Zhuanghe Yongchun Marine Products

Appendix II

Companies Preliminarily Found to Have No Shipments

1. Zhangzhou Hongwei Foods Co., Ltd.

2. Zhanjiang Regal Integrated Marine Resources Co., Ltd.

Appendix III

List of Topics Discussed in the Preliminary Decision Memorandum

I. Summary

II. Background

III. Scope of the Order

IV. Discussion of the Methodology

V. Recommendation

[FR Doc. 2022-23217 Filed 10-24-22; 8:45 am]

BILLING CODE 3510-DS-P